DEPARTMENT OF JUSTICE

Notice of Lodging of Consent Decree in United States v. Waste Management of Wisconsin, Inc., et al. Under the Comprehensive Environmental Response, Compensation and Liability Act (CERCLA)

Notice is hereby given that on September 25, 2009, a proposed Consent Decree was lodged with the United States District Court for the Eastern District of Wisconsin in United States v. Waste Management of Wisconsin, Inc., et al., Case No. 09-cv-0135. The Consent Decree between the United States, on behalf of the U.S. Environmental Protection Agency (“U.S. EPA”), and the settling defendant relates to certain liabilities under the Comprehensive Environmental Response, Compensation and Liability Act (“CERCLA”), 42 U.S.C. 9601 et seq., in connection with the Watertown Tire Fire Site in Watertown, Wisconsin (the “Site”). Under the proposed Consent Decree, the settling defendant is required to pay $3,500 to reimburse costs incurred by U.S. EPA in connection with the Site.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Waste Management of Wisconsin, Inc., et al., DJ Ref. No. 90-11-3-09429.

The Consent Decree may be examined at the Office of the United States Attorney for the Eastern District of Wisconsin, 517 E. Wisconsin Ave., Suite 530, Milwaukee, WI 53202-4580 by request to Assistant U.S. Attorney Matthew Richmond, and at the U.S. EPA Region V, 77 West Jackson Blvd., Chicago, IL 60604. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the U.S. Treasury.

Maureen Katz,
Assistant Section Chief, Environmental Enforcement Section, Environment and Natural Resources Division.

[FR Doc. E9-23748 Filed 9-30-09; 8:45 am]

BILLING CODE 4410-15-P